DEPARTMENT OF COMMERCE

National Oceanic and Atmospheric Administration

RIN: 0648-XM45

North Pacific Fishery Management Council; Public Meeting

AGENCY: National Marine Fisheries Service (NMFS), National Oceanic and Atmospheric Administration (NOAA), Commerce.

ACTION: Notice of a public committee meeting.

SUMMARY: The North Pacific Fishery Management Council's (Council) Crab Committee will meet January 14, 2009.

DATES: The meeting will be held on January 14, 2009, from 9 a.m. to 5 p.m.

ADDRESSES: The meeting will be held at the Anchorage Hilton, 500 West 3rd Avenue, Birch/Willow Room, Anchorage, AK.

Council address: North Pacific Fishery Management Council, 605 W. 4th Ave., Suite 306, Anchorage, AK 99501-2252.

FOR FURTHER INFORMATION CONTACT: Mark Fina, North Pacific Fishery Management Council; telephone: (907) 271-2809.

SUPPLEMENTARY INFORMATION: The committee will discuss the Crab Rationalization program. Discussions will focus on crew issues including: (1) a potential regional fishery association to hold and distribute C share quota and (2) a private arrangement among owners that would fund Quota Share purchases by active crew.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: December 23, 2008.
Tracey L. Thompson,
Acting Director, Office of Sustainable Fisheries, National Marine Fisheries Service.

[FR Doc. E8-30990 Filed 12-29-08; 8:45 am]

BILLING CODE 3510-22-S